ENVIRONMENTAL PROTECTION AGENCY

40 CFR Part 147

[EPA-HQ-OW-2015-0372; FRL-9957-47-OW]

State of Kentucky Underground Injection Control (UIC) Class II Program; Withdrawal of Primacy Approval

AGENCY: Environmental Protection Agency (EPA).

ACTION: Withdrawal of direct final rule.

SUMMARY: Because the U.S. Environmental Protection Agency (EPA) received adverse comment, we are withdrawing the direct final rule approving the Commonwealth of Kentucky's Underground Injection Control (UIC) Class II Program for primacy, published on October 28, 2016.

DATES: Effective December 28, 2016, EPA withdraws the direct final rule published at 81 FR 74927, on October 28, 2016.

FOR FURTHER INFORMATION CONTACT: Holly S. Green, Drinking Water Protection Division, Office of Ground Water and Drinking Water (4606M), U.S. Environmental Protection Agency, 1200 Pennsylvania Ave. NW., Washington, DC 20460; telephone number: (202) 566-0651; fax number: (202) 564-3754; email address: green.holly@epa.gov; or Nancy H. Marsh, Safe Drinking Water Branch, U.S. Environmental Protection Agency, Region 4, 61 Forsyth Street SW., Atlanta, Georgia 30303; telephone number (404) 562-9450; fax number: (404) 562 9439; email address: marsh.nancy@epa.gov.

SUPPLEMENTARY INFORMATION: Because EPA received adverse comment, we are withdrawing the direct final rule approving the Commonwealth of Kentucky's Underground Injection Control Class II (UIC).

Program for primacy, published on October 28, 2016. We stated in that direct final rule that if we received adverse comment by November 28, 2016, the direct final rule would not take effect and we would publish a timely withdrawal in the Federal Register. We subsequently received adverse comment on that direct final rule. We will address those comments in any subsequent final action, which will be based on the parallel proposed rule also published on October 28, 2016 (81 FR 75006). As stated in the direct final rule and the parallel proposed rule, we will not institute a second comment period on this action.

Dated: December 20, 2016.
Gina McCarthy,
Administrator.

Accordingly, the direct final rule published on October 28, 2016, (81 FR 74927) is withdrawn effective December 28, 2016.

[FR Doc. 2016-31267 Filed 12-27-16; 8:45 am]

BILLING CODE 6560-50-P